POSTAL SERVICE

Mailing Cremated Remains

AGENCY: Postal Service™.

ACTION: Notice.

SUMMARY: The Postal Service is amending Hazardous, Restricted, and Perishable Mail, Publication 52, in various sections to require markings on mailpieces containing cremated remains, to eliminate the use of USPS-produced Priority Mail Express® labels for domestic shipments, and to limit the use of additional mailing services.

DATES: Date of publication in the Postal Bulletin: November 7, 2019.

FOR FURTHER INFORMATION CONTACT: Karen F. Key at (202) 268-7492 or Garry Rodriguez at (202) 268-7281.

SUPPLEMENTARY INFORMATION: The Postal Service published a notice of prospective revision of standards; invitation to comment on September 17, 2019, (84 FR 48959-48960) to:

1. Require the use of Label 139, Cremated Remains, on all domestic or international mailpieces containing cremated remains.

2. Eliminate the use of Labels 11-B, 11-F, and 11-HFPU, for domestic shipments containing cremated remains.

3. Limit the additional mailing services for mailpieces containing cremated remains to insurance and return receipt.

The Postal Service did not receive any comments to this notice of prospective revision of standards.

To increase the visibility of mailpieces containing cremated remains to postal employees and to ensure those mailpieces are more secure for processing and timely delivery, the Postal Service is requiring the use of Label 139 to be affixed to each side (including top and bottom) of a Priority Mail Express or Priority Mail Express International mailpiece containing cremated remains (USPS-produced or customer supplied). As an alternative, the Postal Service is introducing a special Priority Mail Express cremated remains branded box (BOX-CRE) that may be used for domestic or international shipments of cremated remains. The new Priority Mail Express cremated remains branded box will be available as part of a kit that will be offered in two versions. One kit will contain the box and a roll of tape. The other kit will include the box, a self-sealing plastic bag, bubble wrap, tape, and Publication 139, How to Package and Ship Cremated Remains. Both kits can be ordered online at the Postal Store on USPS.com®.

To improve service, the Postal Service is providing an option for retail customers to present a mailpiece containing cremated remains at a Post Office® location and have a shipping label printed and affixed. Customers will continue to have the option to use a single-ply Priority Mail Express label generated through Click-N-Ship or other USPS-approved method. If customers generate a single-ply label, the Postal Service is requiring an Intelligent Mail® package barcode (IMpb®) shipping label with the appropriate service type code and banner text above the barcode (see Publication 199) used for cremated remains domestic shipments. The shipping services file must include the appropriate cremated remains three-digit Extra Service Code for domestic and international shipments (see Publication 199). The use of a Priority Mail Express Label 11-B, 11-F, and 11-HFPU, will no longer be accepted for cremated remains domestic shipments.

As a result of improving service with the new shipping label requirements, the Postal Service is limiting the extra services available when mailing cremated remains to additional insurance and return receipt, and is eliminating the option to use Hold For Pickup service. Customers will continue to have the option to request a signature.

The specific revisions to Publication 52, Hazardous, Restricted, and Perishable Mail referenced in this notice will be published in Postal Bulletin 22532 on November 7, 2019, and can be viewed at http://about.usps.com/postal-bulletin. These revisions are expected to be incorporated into Publication 52 within the next few weeks. Publication 52 is provided in its entirety on Postal Explorer® at pe.usps.com.

In addition, the Postal Service will update Mailing Standards of the United States Postal Service, Domestic Mail Manual (DMM®) and International Mail Manual (IMM®), and Publication 139, How to Package and Ship Cremated Remains, under separate cover.

These revisions will enable the Postal Service to provide an improved customer experience from sender to receiver.

* * * * *

Brittany M. Johnson,
Attorney, Federal Compliance.

[FR Doc. 2019-23543 Filed 10-28-19; 8:45 am]

BILLING CODE 7710-12-P